OFFICE OF PERSONNEL MANAGEMENT

President's Commission on White House Fellowships Advisory Committee: Closed Meeting

AGENCY: President's Commission on White House Fellowships, U.S. Office of Personnel Management.

ACTION: Notice of meeting.

SUMMARY: The President's Commission on White House Fellowships (PCWHF) was established by an Executive Order in 1964. The PCWHF is an advisory committee composed of Special Government Employees appointed by the President. The Advisory Committee meet in June to interview potential candidates for recommendation to become a White House Fellow.

The meeting is closed.

Name of Committee: President's Commission on White House Fellowships Selection Weekend.

Date: January 25, 2016.

Time: 8:00 a.m.-5:30 p.m.

Place: Eisenhower Executive Office Building, Washington, DC.

Agenda: The Commission will talk to current Fellows on how their placements are going and discussion on Selection Weekend and Recruitment.

FOR FURTHER INFORMATION CONTACT: Jennifer Y. Kaplan, 712 Jackson Place NW., Washington, DC 20503, Phone: 202-395-4522.

President's Commission on White House Fellowships.
Jennifer Paolino,
Deputy Director.

[FR Doc. 2015-29585 Filed 11-19-15; 8:45 am]

BILLING CODE 6325-44-P